DEPARTMENT OF LABOR

Occupational Safety and Health Administration

[Docket No. OSHA-2010-0046]

QPS Evaluation Services, Inc.: Request for Renewal of Recognition and Applications for Expansion of Recognition

AGENCY: Occupational Safety and Health Administration (OSHA), Labor.

ACTION: Notice.

SUMMARY: In this notice, OSHA announces the application of QPS Evaluation Services, Inc. (QPS), for renewal of recognition as a Nationally Recognized Testing Laboratory (NRTL). Additionally, this notice announces QPS's applications for expansion of its recognition as an NRTL and presents the Agency's preliminary finding to grant the application.

DATES: Submit comments, information, and documents in response to this notice, or requests for an extension of time to make a submission, on or before December 14, 2015.

ADDRESSES: Submit comments by any of the following methods:

1. Electronically: Submit comments and attachments electronically at http://www.regulations.gov, which is the Federal eRulemaking Portal. Follow the instructions online for making electronic submissions.

2. Facsimile: If submissions, including attachments, are not longer than 10 pages, commenters may fax them to the OSHA Docket Office at (202) 693-1648.

3. Regular or express mail, hand delivery, or messenger (courier) service: Submit comments, requests, and any attachments to the OSHA Docket Office, Docket No. OSHA-2010-0046, Technical Data Center, U.S. Department of Labor, 200 Constitution Avenue NW., Room N-2625, Washington, DC 20210; telephone: (202) 693-2350 (TTY number: (877) 889-5627). Note that security procedures may result in significant delays in receiving comments and other written materials by regular mail. Contact the OSHA Docket Office for information about security procedures concerning delivery of materials by express mail, hand delivery, or messenger service. The hours of operation for the OSHA Docket Office are 8:15 a.m.-4:45 p.m., e.t.

4. Instructions: All submissions must include the Agency name and the OSHA docket number (OSHA-2010-0046). OSHA places comments and other materials, including any personal information, in the public docket without revision, and these materials will be available online at http://www.regulations.gov. Therefore, the Agency cautions commenters about submitting statements they do not want made available to the public, or submitting comments that contain personal information (either about themselves or others) such as Social Security numbers, birth dates, and medical data.

5. Docket: To read or download submissions or other material in the docket, go to http://www.regulations.gov or the OSHA Docket Office at the address above. All documents in the docket are listed in the http://www.regulations.gov index; however, some information (e.g., copyrighted material) is not publicly available to read or download through the Web site. All submissions, including copyrighted material, are available for inspection and copying at the OSHA Docket Office. Contact the OSHA Docket Office for assistance in locating docket submissions.

6. Extension of comment period: Submit requests for an extension of the comment period on or before December 14, 2015 to the Office of Technical Programs and Coordination Activities, Directorate of Technical Support and Emergency Management, Occupational Safety and Health Administration, U.S. Department of Labor, 200 Constitution Avenue NW., Room N-3655, Washington, DC 20210, or by fax to (202) 693-1644.

FOR FURTHER INFORMATION CONTACT: Information regarding this notice is available from the following sources:

Press inquiries: Contact Mr. Frank Meilinger, Director, OSHA Office of Communications, U.S. Department of Labor, 200 Constitution Avenue NW., Room N-3647, Washington, DC 20210; telephone: (202) 693-1999; email: meilinger.francis2@dol.gov.

General and technical information: Contact Mr. Kevin Robinson, Director, Office of Technical Programs and Coordination Activities, Directorate of Technical Support and Emergency Management, Occupational Safety and Health Administration, U.S. Department of Labor, 200 Constitution Avenue NW., Room N-3655, Washington, DC 20210; phone: (202) 693-2110, or email: robinson.kevin@dol.gov.

SUPPLEMENTARY INFORMATION:

I. Background

OSHA recognition of an NRTL signifies that the organization meets the requirements specified in Section 1910.7. Recognition is an acknowledgment that the organization can perform independent safety testing and certification of the specific products covered within its scope of recognition. Each NRTL's scope of recognition includes (1) the type of products the NRTL may test, with each type specified by its applicable test standard; and (2) the recognized site(s) that has/have the technical capability to perform the product-testing and product-certification activities for test standards within the NRTL's scope. Recognition is not a delegation or grant of government authority; however, recognition enables employers to use products approved by the NRTL to meet OSHA standards that require product testing and certification. OSHA maintains an informational Web site for each NRTL that details its scope of recognition available at http://www.osha.gov/dts/otpca/nrtl/index.html.

The Agency processes applications by an NRTL for renewals and expansions of recognition following requirements in Appendix A to 29 CFR 1910.7. OSHA conducts renewals in accordance with the procedures in 29 CFR 1910.7, App. II.C. OSHA processes applications for modifying the scope of recognition in accordance with 29 CFR 1910.7, App. IB4. In accordance with these procedures, NRTLs may submit an application to modify its scope of recognition at any time within its recognition period. For renewals, NRTLs must submit a request to OSHA, between nine months and one year before the expiration date of its current recognition. A renewal request includes an application for renewal and any additional information demonstrating its continued compliance with the terms of its recognition and 29 CFR 1910.7. If OSHA did not conduct an on-site assessment of the NRTL's headquarters and key sites within the past 18 to 24 months, the Agency will schedule the necessary on-site assessments prior to the expiration date of the NRTL's recognition. Upon review of the submitted material and, as necessary, the successful completion of the on-site assessment, OSHA announces its preliminary decision to grant or deny renewal and QPS's requested scope expansion in the Federal Register and solicits comments from the public. OSHA then publishes a final Federal Register notice responding to any comments and announcing the Agency's Final Decision on modifying an NRTL's scope of recognition and on the renewal of the NRTL's recognition.

II. Notice of Application for Expansion

The Occupational Safety and Health Administration is providing notice that QPS is applying for expansion of its current recognition as an NRTL. QPS requests the addition of seven test standards to its NRTL scope of recognition.

QPS currently has one facility (site) recognized by OSHA for product testing and certification, with its headquarters located at: QPS Evaluation Services, Inc., 81 Kelfield Street, Unit 8, Toronto, Ontario, M9W 5A3.

III. General Background on the Application for Expansion

QPS submitted two applications, one dated July 16, 2014, and one dated June 9, 2015 (QPS Exhibit 14-1—Expansion Application for Six Standards OSHA-2010-0046 and QPS Exhibit 15-1—Amended Expansion Application to Add an Additional Standard OSHA-2010-0046), to expand its recognition to include seven additional test standards. These two applications were combined. OSHA staff performed a comparability analysis and reviewed other pertinent information. OSHA performed an on-site review in relation to these applications (as well as the application for renewal) on July 16-17, 2015.

Table 1 below lists the appropriate test standards found in QPS's applications for expansion for testing and certification of products under the NRTL Program.

Table 1—Proposed Appropriate Test Standards for Inclusion in QPS's NRTL Scope of Recognition
Test standard | Test standard title
UL 48 | Standard for Electric Signs.
UL 8750 | Standard for Light Emitting Diode (LED) Equipment for Use in Lighting Products.
UL 73 | Standard for Motor-Operated Appliances.
UL 1310 | Standard for Class 2 Power Units.
UL 1598 | Luminaries.
UL 1741 | Standard for Inverters, Converters, Controllers and Interconnection System Equipment for Use with Distributed Energy Resources.
ANSI/ISA 12.12.01 | Nonincendive Electrical Equipment for Use in Class I and II, Division 2 and Class III, Divisions 1 and 2 Hazardous (Classified) Locations.

IV. General Background on Application for Renewal

OSHA is additionally providing notice that QPS is applying for renewal of its current recognition as an NRTL. QPS initially received OSHA recognition as an NRTL on March 2, 2011 (76 FR 11518) for a five-year period expiring on March 2, 2016. QPS submitted a timely request for renewal, dated April 21, 2015 (Exhibit 2—Renewal Application, OSHA-2010-0046) and retains its recognition pending OSHA's final decision in this renewal process. The current address of QPS facilities recognized by OSHA and included as part of the renewal request are:

1. QPS Evaluation Services, Inc., 81 Kelfield Street,Unit 8, Toronto, Ontario, M9W 5A3 Canada.

V. Notice of Preliminary Findings of the Applications

QPS submitted acceptable applications for expansion of its scope of recognition. OSHA's review of the application file and on-site review indicate that QPS can meet the requirements prescribed by 29 CFR 1910.7 for expanding its recognition to include the addition of the test standards for NRTL testing and certification noted in Table 1 above. This preliminary finding does not constitute an interim or temporary approval of QPS's applications.

This requested renewal covers QPS's existing NRTL scope of recognition. OSHA evaluated QPS's application for renewal, conducted an on-site review of QPS's facilities and preliminarily determined that QPS can continue to meet the requirements prescribed by 20 CFR 1910.7 for recognition. This information includes OSHA's most recent on-site assessment of QPS's facilities conducted on July 16-17, 2015 (Toronto, Canada). The assessors found some nonconformances with the requirements of 29 CFR 1910.7. QPS addressed these issues sufficiently to meet the applicable NRTL requirements. This preliminary finding does not constitute an interim or temporary approval of the application.

OSHA welcomes public comment as to whether QPS meets the requirements of 29 CFR 1910.7 for expansion and renewal of its recognition as an NRTL. Comments should consist of pertinent written documents and exhibits. Commenters needing more time to comment must submit a request in writing, stating the reasons for the request. Commenters must submit the written request for an extension by the due date for comments. OSHA will limit any extension to 10 days unless the requester justifies a longer period. OSHA may deny a request for an extension if it is not adequately justified. To obtain or review copies of the exhibits identified in this notice, as well as comments submitted to the docket, contact the Docket Office, Room N-2625, Occupational Safety and Health Administration, U.S. Department of Labor, at the above address. These materials also are available online at http://www.regulations.gov under Docket No. OSHA-2010-0046.

OSHA staff will review all comments submitted to the docket in a timely manner and, after addressing the issues raised by these comments, will recommend whether to grant QPS's application for renewal and for expansion of its scope of recognition. The Assistant Secretary will make the final decision on granting the application and, in making this decision, may undertake other proceedings prescribed in Appendix A to 29 CFR 1910.7.

OSHA will publish a public notice of this final decision in the Federal Register.

Authority and Signature

David Michaels, Ph.D., MPH, Assistant Secretary of Labor for Occupational Safety and Health, 200 Constitution Avenue NW., Washington, DC 20210, authorized the preparation of this notice. Accordingly, the Agency is issuing this notice pursuant to 29 U.S.C. 657(g)(2), Secretary of Labor's Order No. 1-2012 (77 FR 3912, Jan. 25, 2012), and 29 CFR 1910.7.

Signed at Washington, DC, on November 23, 2015.
David Michaels,
Assistant Secretary of Labor for Occupational Safety and Health.

[FR Doc. 2015-30168 Filed 11-25-15; 8:45 am]

BILLING CODE 4510-26-P